FEDERAL COMMUNICATIONS COMMISSION

47 CFR Part 5

[FCC 03-207]

Experimental Radio Licenses and Authorizations

AGENCY: Federal Communications Commission

ACTION: Final rule.

SUMMARY: This document amends the Commission's rules which apply to experimental radio licensing. The primary revision requires that all applications for licenses for Experimental Radio stations be filed electronically. We are codifying the existing requirement that any objections to Experimental Radio license applications must comply with the provisions of the Commission's rules governing informal objections.

DATES: Effective November 14, 2003.

FOR FURTHER INFORMATION CONTACT: Jim Burtle, Office of Engineering and Technology, (202) 418-2445, or Doug Young, Office of Engineering and Technology, (202) 418-2440.

SUPPLEMENTARY INFORMATION: This is a summary of the Commission's Order adopted August 15, 2003, and released August 20, 2003, that finalizes those regulations. The full text of this Commission decision is available on the Commission's Internet site at http://www.fcc.gov. It is available for inspection and copying during normal business hours in the FCC Reference Information Center, Room CY-A257, 445 12th Street, SW., Washington, DC 20554. The complete text of this document also may be purchased from the Commission's copy contractor, Qualex International, 445 12th Street, SW., Room, CY-B402, Washington, DC 20554. The full text may also be downloaded at: http://www.fcc.gov. Alternative formats are available to persons with disabilities by contacting Brian Millin at (202) 418-7426 or TTY (202) 418-7365.

Summary of the Order

1. The Order, 63 FR 64199, November 19, 1998, revised the rules in the Experimental Radio Service to promote technical innovation and new services by encouraging experiments; ensure that experimental licenses do not result in abuse of our processes; eliminate unnecessary and burdensome experimental regulations; and protect public safety frequencies.

2. Electronic Filing. Since November 18, 1998, the application forms applicable to licenses for Experimental Radio stations could be submitted to the Commission electronically. These forms are:

a. FCC Form 405, Application for Renewal of Experimental License or STA.

b. FCC Form 442, Application for New or Modified Experimental Radio Station Authorization.

c. FCC Form 702, Application for Consent to Assignment of Radio Station Construction Authorization or License (For Stations in Services Other Than Broadcast).

d. FCC Form 703, Application for Consent to Transfer Control of Corporation Holding Station License.

e. Special Temporary Authority (STA), Application for STA.

f. Add Attachments, Form for Submitting Additional Exhibits to an Existing Experimental Licensing Application.

g. Submit Correspondence, Form for Replying to Correspondence Sent by the OET ELS Branch Pertaining to a Pending Application.

h. Amend/Complete Application, Form for Amending or Completing a Page on a Previously-Filed Experimental Radio Licensing Application

2. These forms have been accessible at the official web site of the Commission's Office of Engineering and Technology, https://gullfoss2.fcc.gov/prod/oet/cf/els/index.cfm. Of the 769 total Experimental Radio license application filings in calendar year 2002, 88% were filed electronically. In the Quarter ending March 31, 2003, 215 filings were submitted, and 93% of these were made electronically. By requiring that applications for Experimental Radio licenses henceforth be filed electronically, we are taking another step toward the Commission's compliance with Section 1704 of the Government Paperwork Elimination Act. We do, however, recognize that the mandatory electronic filing requirement could impose unusual burdens on some filers and that, therefore, it may be appropriate for us to consider granting limited waivers of this requirement. Such waivers, however, will not be routinely granted and the filing party must plead with particularity the facts and circumstances warranting relief.

3. Mandatory electronic filing of applications for Experimental Radio licenses will commence on January 1, 2004. This change is reflected in the amendments to part 5 of the Commission's Rules, 47 CFR 5.1-5.125. Because this change from voluntary to mandatory electronic filing is merely procedural in nature and does not substantively change the information required to be filed with the Commission, the notice and comment requirements of the Administrative Procedure Act are inapplicable. Paper versions of these forms will not be accepted for filing after December 31, 2003, unless accompanied by an appropriate request for waiver of the electronic filing requirement.

4. Informal Objections. Applications for Experimental Radio licenses are not subject to the public notice requirements of section 309(b) of the Communications Act, of 1934, as amended, and, therefore, the proper procedure for opposing such applications is to file an informal objection. However, there is no provision in part 5 of the rules that expressly address this point. To codify this requirement, we are adding § 5.95, which will provide for the filing of informal objections that comply with the requirements set forth in §§ 1.41-1.52 of the rules. We continue to prefer the use of informal procedures in the context of part 5, which “contemplate[s] that experimental licensees will cooperate in good faith with [regular] service licensees to prevent harmful interference to the affected services, to investigate any complaints of interference, and to take appropriate measures to mitigate interference” and require that “in the event of unmitigable harmful interference, experimental operations must cease immediately.” Because this amendment merely clarifies an existing procedure and makes no substantive changes to the Commission's rules, it also is exempt from the notice and comment requirements of the Administrative Procedure Act.

5. Pursuant to sections 4, 302, and 303 of the Communications Act of 1934, as amended, 47 U.S.C. 154, 302, and 303, this Order IS ADOPTED.

List of Subjects in 47 CFR Part 5

Radio, Reporting and recordkeeping requirements.

Federal Communications Commission.
Marlene H. Dortch,
Secretary.

Rule Changes

For the reasons discussed in the preamble, the Federal Communications Commission amends 47 CFR part 5 as follows:

PART 5—EXPERIMENTAL RADIO SERVICE (OTHER THAN BROADCAST)

1. The authority citation for part 5 continues to read as follows:

Authority: Secs. 4, 302, 303, 48 Stat. 1066, 1082, as amended; 47 U.S.C. 154, 302, 303. Interpret or apply sec. 301, 48 Stat. 1081, as amended; 47 U.S.C. 301.

1a. Section 5.55 is amended by revising paragraphs (a) and (b) to read as follows:

§ 5.55 Filing of applications.

(a) To assure that necessary information is supplied in a consistent manner by all persons, standard forms are prescribed for use in connection with the majority of applications and reports submitted for Commission consideration. Standard numbered forms applicable to the Experimental Radio Service are discussed in § 5.59 and may be accessed electronically at the Office of Engineering and Technology Web site https://gullfoss2.fcc.gov/prod/oet/cf/els/index.cfm. If no standard form is applicable, the informal application procedure outlined in § 5.59(f) should be followed.

(b) Any application for radio station authorization shall be submitted electronically through the Office of Engineering and Technology Web site https://gullfoss2.fcc.gov/prod/oet/cf/els/index.cfm effective January 1, 2004. Any correspondence relating thereto that cannot be submitted electronically shall instead be submitted to the Commission's Office of Engineering and Technology, Washington, DC 20554. (Applications requiring fees as set forth in part 1, subpart G of this chapter must be filed in accordance with § 0.401(b) of this chapter.)

* * * * *

2. Section 5.61 is amended by revising the introductory text of paragraph (c) to read as follows:

§ 5.61 Procedure for obtaining a special temporary authorization.

* * * * *

(c) An application for special temporary authorization shall be filed electronically through the Office of Engineering and Technology Web site https://gullfoss2.fcc.gov/prod/oet/cf/els/index.cfm effective January 1, 2004 and shall contain the following information:

* * * * *

3. Section 5.95 is added to read as follows:

§ 5.95 Informal objections.

A person or entity desiring to object to or to oppose an Experimental Radio application for a station license or authorization may file an informal objection against that application. The informal objection and any responsive pleadings shall comply with the requirements set forth in §§ 1.41 through 1.52 of this chapter.

[FR Doc. 03-25967 Filed 10-14-03; 8:45 am]

BILLING CODE 6712-01-P